DEPARTMENT OF ENERGY

Federal Energy Regulatory Commission

[Project No. 12632-000]

East Texas Electric Cooperative, Inc.; Notice of Scoping Meeting and Soliciting Scoping Comments for an Applicant Prepared Environmental Assessment Using the Alternative Licensing Process

February 28, 2008.

a. Type of Application: Alternative Licensing Process.

b. Project No.: 12632-000.

c. Applicant: East Texas Electric Cooperative, Inc. (Cooperative).

d. Name of Project: Lake Livingston Hydroelectric Project.

e. Location: At the Lake Livingston dam, on the Trinity River, in San Jacinto, Polk, Trinity, and Walker Counties, Texas. No federal lands would be affected.

f. Filed Pursuant to: Federal Power Act, 16 U.S.C. 791(a)-825(r).

g. Potential Applicant Contact: Edd Hargett, East Texas Electric Cooperative, Inc., 2905 Westward Drive, P.O. Box 631623, Nacogdoches, TX 75963; (936) 560-9532; e-mail—eddh@gtpower.com.

h. FERC Contact: Sarah Florentino, at (202) 502-6863 or sarah.florentino@ferc.gov.

j. Deadline for filing scoping comments: April 25, 2008.

All documents (original and eight copies) should be filed with: Kimberly D. Bose, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. The proposed project would use the following existing facilities: (1) The Trinity River Authority's (TRA) existing 14,400-foot-long (approximate) Lake Livingston dam, having a crest elevation of 145.0 feet mean sea level (msl), and consisting of a basic earth embankment section, outlet works, and spillway; and (2) the 83,000-acre Lake Livingston, with a normal water surface elevation of 131.0 feet msl and gross storage capacity of 1,750,000 acre-feet. The proposed project would consist of the following new facilities: (1) An intake structure and headrace channel approximately 800 feet long; (2) three steel penstocks, about 14 feet in diameter and 450 feet in length; (3) a powerhouse containing three generating units, having a total installed capacity of 24 MW; (4) an approximate 2,000-feet-long tailrace channel; (5) an approximate 2.5-mile-long, 138-kilovolt transmission line interconnecting the project with Entergy's existing Rich substation near Goodrich; and (6) an electric switchyard and other appurtenant facilities. The project would have an estimated annual generation of 124.030 gigawatt-hours, which the Cooperative would sell at wholesale to its constituent electric cooperatives.

l. Scoping Process

The Cooperative will use the Commission's alternative licensing process (ALP). Under the ALP, the Cooperative will prepare an Applicant Prepared Environmental Assessment (APEA) and license application for the Lake Livingston Hydroelectric Project.

The Cooperative expects to file with the Commission, the APEA and the license application for the Lake Livingston Hydroelectric Project by March 2009. Although the Cooperative's intent is to prepare an environmental assessment (EA), there is the possibility that an Environmental Impact Statement (EIS) will be required. Nevertheless, this meeting will satisfy the NEPA scoping requirements, irrespective of whether an EA or EIS is issued by the Commission.

The purpose of this notice is to inform you of the opportunity to participate in the upcoming scoping meetings identified below, and to solicit your scoping comments.

Scoping Meetings

The Cooperative and Commission staff will hold two scoping meetings, one in the daytime and one in the evening, to help us identify the scope of issues to be addressed in the APEA.

The daytime scoping meeting will focus on resource agency concerns, while the evening scoping meeting is primarily for public input. All interested individuals, organizations, and agencies are invited to attend one or both of the meetings, and to assist the staff in identifying the environmental issues that should be analyzed in the APEA. The times and locations of these meetings are as follows:

Daytime meeting | Evening meeting
Wednesday, March 26, 2008 | Wednesday, March 26, 2008
1:30 p.m. to 3:30 p.m. | 6 p.m. to 8 p.m.
Central Standard Time (CST) | CST
Community Meeting Room,
Livingston-Polk County Chamber of Commerce,
1001 U.S. Hwy 59 Loop North,
Livingston, Texas 77351.
(936) 327-4929

To help focus discussions, Scoping Document 1 (SD1), which outlines the subject areas to be addressed in the APEA, was mailed to the individuals and entities on the Commission's mailing list and the Cooperative's distribution list on February 27, 2008. Copies of the SD1 also will be available at the scoping meetings. SD1 is available for review at the Commission in the Public Reference Room, or may be viewed on the Commission's Web site at http://www.ferc.gov using the “eLibrary” link. Enter the docket number excluding the last three digits in the docket number field to access the document. For assistance, contact FERC Online Support at FERCOnlineSupport@ferc.gov, or toll-free at 1-866-208-3676, or for TTY, (202) 502-8659.

You may also register online at http://www.ferc.gov/docs-filing/esubscription.asp to be notified via email of new filings and issuances related to this or other pending projects. For assistance, contact FERC Online Support.

Based on all written comments received, a Scoping Document 2 (SD2) may be issued. SD2 will include a revised list of issues, as determined by the scoping process.

Meeting Objectives

At the scoping meetings, the staff will: (1) Summarize the environmental issues tentatively identified for analysis in the APEA; (2) solicit from the meeting participants all available information, especially quantifiable data, on the resources at issue; (3) encourage statements from experts and the public on issues that should be analyzed in the APEA, including viewpoints in opposition to, or in support of, the staff's preliminary views; (4) determine the resource issues to be addressed in the APEA; and (5) identify those issues that require a detailed analysis, as well as those issues that do not require a detailed analysis.

Individuals, organizations, and agencies with environmental expertise and concerns are encouraged to attend the meetings and to assist the Cooperative and Commission staff in defining and clarifying the issues to be addressed in the APEA. Please review the Cooperative's Preliminary Application Document (PAD) and SD1 in preparation for the scoping meetings. Instructions on how to obtain copies of the PAD and SD1 are included above.

Meeting Procedures

The meetings will be recorded by a stenographer and will become part of the formal record of the Commission proceeding on the project.

Site Visit

The Cooperative and Commission staff will conduct a site visit of the project on Wednesday, March 26, 2008, following the afternoon session of the scoping meeting.

The site visit to Lake Livingston dam will take place at TRA's Lake Livingston project headquarters. The physical address of the project is 5170 S. FM 1988, Livingston, Texas 77351. Access to the dam site is secure, and all individuals wishing to participate in the site visit must register and provide a copy of a photo identification in advance. If you want to attend the site visit, please notify Brian Lawson, the Cooperative's Project Manager, and send him a faxed or scanned copy of a photo ID not later than March 19, 2008, using the following contact information: Brian Lawson, Project Manager, GDS Associates, Inc., 1850 Parkway Place, Suite 800, Marietta, GA 30067, Phone: 770-425-8100, Fax: 770-426-0303, Brian.Lawson@GDSassociates.com.

Kimberly D. Bose,
Secretary.

[FR Doc. E8-4223 Filed 3-4-08; 8:45 am]

BILLING CODE 6717-01-P